DEPARTMENT OF COMMERCE

International Trade Administration

[A-351-806]

Silicon Metal From Brazil: Preliminary Results of Antidumping Duty Administrative Review

AGENCY: Import Administration, International Trade Administration, Department of Commerce.

SUMMARY: In response to requests by Globe Metallurgical (petitioner) and Camargo Correa Metais S.A. (CCM) the Department of Commerce (the Department) is conducting an administrative review of the antidumping duty order on silicon metal from Brazil. The period of review (POR) is July 1, 2003, through June 30, 2004.

We preliminarily determine that CCM did not sell subject merchandise at less than normal value (NV) during the POR. If these preliminary results are adopted in our final results of this administrative review, we will instruct U.S. Customs and Border Protection (CBP) to assess antidumping duties based on the difference between the export price (EP) and NV. We invite interested parties to comment on the preliminary results.

EFFECTIVE DATE: August 8, 2005.

FOR FURTHER INFORMATION CONTACT: Maisha Cryor at (202) 482-5831 or Mark Manning at (202) 482-5253, AD/CVD Operations, Office IV, Import Administration, International Trade Administration, U.S. Department of Commerce, 14th Street and Constitution Avenue, NW., Washington, DC 20230.

SUPPLEMENTARY INFORMATION:

Background

On July 31, 1991, the Department published in the Federal Register the antidumping duty order on silicon metal from Brazil. See Antidumping Duty Order: Silicon Metal from Brazil, 56 FR 36135 (July 31, 1991). On July 1, 2004, the Department published in the Federal Register a notice of opportunity to request an administrative review of the antidumping duty order on silicon metal from Brazil for the period July 1, 2003, through June 30, 2004. See Antidumping or Countervailing Duty Order, Finding, or Suspended Investigation; Opportunity To Request Administrative Review, 69 FR 39903 (July 1, 2004). On July 16, 2004, CCM requested that the Department conduct an administrative review of its sales. On July 30, 2004, the petitioner requested that the Department conduct an administrative review of sales made by CCM, Ligas de Aluminio S.A (LIASA), and Companhia Ferroligas de Minas Gerais - Minasligas (Minasligas). On August 30, 2004, in accordance with 19 CFR 351.221(c)(1)(i) of the Department's regulations, the Department published in the Federal Register a notice of initiation of this antidumping duty administrative review. See Initiation of Antidumping and Countervailing Duty Administrative Reviews and Requests for Revocation in Part, 69 FR 52857 (August 30, 2004). On September 14, 2004, the Department issued questionnaires to CCM, LIASA and Minasligas.¹

¹ Section A of the questionnaire requests general information concerning a company's corporate structure and business practices, the merchandise under review that it sells, and the manner in which it sells that merchandise in all of its markets. Section B requests a complete listing of all home market sales, or, if the home market is not viable, of sales in the most appropriate third-country market (this section is not applicable to respondents in non-market economy (NME) cases). Section C requests a complete listing of U.S. sales. Section D requests information on the cost of production (COP) of the foreign like product and the constructed value (CV) of the merchandise under review. Section E requests information on further manufacturing.

On September 24, 2004, LIASA and Minasligas both submitted letters to the Department stating that they made no sales or shipments of silicon metal to the United States during the POR. We confirmed with CBP that neither LIASA nor Minasligas had entries of subject merchandise during the POR and rescinded the review with respect to both companies. See Silicon Metal from Brazil; Notice of Partial Rescission of Antidumping Duty Administrative Review, 69 FR 67702 (November 19, 2004). The Department received a response to section A of the questionnaire from CCM on October 7, 2004, and received responses to sections B through D of the questionnaire on November 1, 2004.

The Department issued supplemental questionnaires to CCM in December 2004, February 2005, March 2005, June 2005 and July 2005 and received responses in January 2005, February 2005, March 2005, June 2005, and July 2005, respectively.

On March 7, 2005, in accordance with section 751(a)(3)(A) of the Tariff Act of 1930, as amended (the Act), the Department extended the deadline for the preliminary results until August 1, 2005. See Silicon Metal from Brazil: Notice of Extension of Time Limit for Preliminary Results of Antidumping Duty Administrative Review, 70 FR 12185 (March 11, 2005).

The Department is conducting this review in accordance with section 751 of the Act.

Scope of the Order

The merchandise covered by this order is silicon metal from Brazil containing at least 96.00 percent but less than 99.99 percent silicon by weight. Also covered by this administrative review is silicon metal from Brazil containing between 89.00 and 96.00 percent silicon by weight but which contains more aluminum than the silicon metal containing at least 96.00 percent but less than 99.99 percent silicon by weight. Silicon metal is currently provided for under subheadings 2804.69.10 and 2804.69.50 of the Harmonized Tariff Schedule of the United States (HTSUS) as a chemical product, but is commonly referred to as a metal. Semiconductor grade silicon (silicon metal containing by weight not less than 99.99 percent silicon and provided for in subheading 2804.61.00 of the HTSUS) is not subject to the order. Although the HTSUS item numbers are provided for convenience and for customs purposes, the written description remains dispositive.

Fair Value Comparisons

During the POR, CCM reported that it made EP sales to the United States. To determine whether sales of subject merchandise made by CCM were made at less than fair value, we compared EP to the NV, as described in the Export Price and Normal Value sections of this notice. In accordance with section 777A(d)(2) of the Act, we calculated monthly weighted-average prices for NV and compared these to individual EP transactions, as appropriate.

Product Comparisons

In accordance with section 771(16) of the Act, we considered all silicon metal covered by the Scope of the Order section of this notice, supra, which was produced and sold by CCM in the home market to be foreign like products for the purpose of determining appropriate product comparisons to U.S. sales of silicon metal. Further, as in a prior segment of this proceeding, we have continued to treat all silicon metal meeting the description of the merchandise under the Scope of the Order section above (with the exception of slag and contaminated products) as identical products for purposes of model-matching. See Silicon Metal From Brazil: Preliminary Results, Intent To Revoke in Part, Partial Rescission of Antidumping Duty Administrative Review, and Extension of Time Limits, 64 FR 43161 (August 9, 1999), unchanged in Final Results of Antidumping Duty Administrative Review: Silicon Metal from Brazil, 65 FR 7497 (February 15, 2000). Therefore, where applicable, if there were no contemporaneous sales of identical merchandise in the home market made in the ordinary course of trade to compare to U.S. sales, we compared U.S. sales to the constructed value (CV) of the product sold in the U.S. market during the comparison period, consistent with section 351.405 of the Department's regulations.

Level of Trade

In accordance with section 773(a)(1)(B) of the Act, to the extent practicable, we determined NV based on sales in the comparison market at the same level of trade (LOT) as the U.S. sales. The NV LOT is that of the starting-price sale in the comparison market or, when the NV is based on CV, that of the sales from which we derive SG&A expenses and profit. For EP sales, the U.S. LOT is also the level of the starting-price sale, which is usually from the exporter to the importer. For CEP sales, it is the level of the constructed sale from the exporter to the importer.

To determine whether comparison market sales are at a different LOT than EP or CEP transactions, we examine stages in the marketing process and selling functions along the chain of distribution between the producer and the unaffiliated customer. If the comparison-market sales are at a different LOT and the difference affects price comparability with U.S. sales, as manifested in a pattern of consistent price differences between the sales on which NV is based and comparison-market sales at the LOT of the export transaction, we make a LOT adjustment pursuant to section 773(a)(7)(A) of the Act. For CEP sales, if the LOT of the home market sale is more remote from the factory than the CEP level and there is no basis for determining whether the difference between the LOT of the home market sale and the CEP transaction affects price comparability, we adjust NV pursuant to section 773(a)(7)(B) of the Act (the CEP offset provision). See Final Results of Antidumping Duty Administrative Review: Carbon and Certain Alloy Steel Wire Rod from Trinidad and Tobago, 70 FR 12648 (March 15, 2005).

To determine whether a LOT adjustment is warranted, we obtained information from CCM about the marketing stages at which its reported U.S. and comparison-market sales were made, including a description of the selling activities performed by CCM for each of its channels of distribution. In identifying LOTs for CCM's EP and comparison market sales, we considered the selling functions reflected in the starting price before any adjustments.

In conducting our LOT analysis for CCM, we took into account the specific customer types, channels of distribution, and selling functions. For CCM we found that there was a single LOT in the United States and a single, identical, LOT in the comparison market. Therefore, it was not necessary to make a LOT adjustment. For a further discussion of our LOT analysis for CCM, see Memorandum from Maisha Cryor, Analyst, to Holly A. Kuga, Senior Office Director, “Level of Trade Analysis: Camargo Correa Metais S.A.,” dated August 1, 2005.

Export Price

For the price to the United States, we used EP as defined in section 772(a) of the Act. Section 772(a) of the Act defines EP as the price at which the subject merchandise is first sold (or agreed to be sold) before the date of importation by the exporter or producer outside the United States to an unaffiliated purchaser in the United States for exportation to the United States. We based EP on packed and delivered prices to unaffiliated purchasers in the United States. In accordance with section 772(c)(2) of the Act, we reduced the starting price by movement expenses and export taxes and duties, if appropriate. These deductions included, where appropriate, foreign inland freight, foreign brokerage and handling, international freight, marine insurance and U.S. customs duties.

Normal Value

I. Selection of Comparison Market

Section 773(a)(1) of the Act directs the Department to base NV on the price at which the foreign like product is sold in the home market, provided that, among other things, the merchandise is sold in sufficient quantities in the home market (or has sufficient aggregate value, if quantity is inappropriate). The statute provides that the total quantity of home market sales of foreign like product (or value) will normally be considered sufficient if it is five percent or more of the aggregate quantity (or value) of sales of the subject merchandise to the United States. See section 773(a)(i)(B)(ii) of the Act. Based on a comparison of the aggregate quantity of home market sales of foreign like product and U.S. sales of subject merchandise by CCM, we determined that the quantity of foreign like product sold in Brazil is more than five percent of the quantity of U.S. sales of subject merchandise. Accordingly, we based NV on home market sales.

In deriving NV, we made adjustments as detailed in the Calculation of Normal Value Based on Comparison-Market Prices section below.

II. Cost of Production Analysis

In the most recently completed administrative review of CCM, we disregarded home market sales found to be below COP. See Silicon Metal from Brazil; Preliminary Results of Antidumping Duty Administrative Review, Intent to Revoke in Part, and Intent Not to Revoke in Part, 61 FR 46776, 46778 (September 15 1996); unchanged in Silicon Metal from Brazil; Final Results of Antidumping Duty Administrative Review and Determination Not to Revoke in Part, 62 FR 1954 (January 14, 1997). Therefore, in accordance with section 773(b)(2)(A)(ii) of the Act, the Department had reasonable grounds to believe or suspect that sales of the foreign like product under consideration for the determination of NV in this review may have been made by CCM at prices below the COP. We, therefore, initiated a cost investigation with regard to CCM in order to determine whether this respondent made home market sales during the POR at prices below the COP within the meaning of section 773(b) of the Act.

A. Calculation of COP

In accordance with section 773(b)(3) of the Act, we calculated a weighted-average COP for CCM based on the sum of the cost of materials and fabrication of the foreign like product, plus amounts for the home market general and administrative (G&A) expenses, interest expenses and packing costs. We relied on the submitted COP data.

B. Test of Home Market Sales Prices for CCM

For CCM, we compared the per-unit adjusted weighted-average COP figures for the POR to home market sale prices of the foreign like product, as required under section 773(b) of the Act, in order to determine whether these sales were made at prices below the COP. On a product-specific basis, we compared the COP to the home market prices, less any applicable movement charges, rebates, and discounts. In determining whether to disregard home market sales made at prices below the COP, we examined whether: (1) within an extended period of time, such sales were made in substantial quantities; and (2) such sales were made at prices which permitted the recovery of all costs within a reasonable period of time.

C. Results of COP Test for CCM

Pursuant to section 773(b)(2)(C), where less than 20 percent of a respondent's sales of a given product were at prices below the COP, we did not disregard any below-cost sales of that product because we determined that the below-cost sales were not made in “substantial quantities.” Where 20 percent or more of the respondent's sales of a given product during the POR were made at prices below the COP, we determined such sales were made in “substantial quantities” within an extended period of time in accordance with section 773(b)(2)(B) of the Act. In such cases, because we compared prices to POR-average costs, we also determined that such sales were not made at prices which would permit the recovery of all costs within a reasonable period of time, in accordance with section 773(b)(2)(D) of the Act.

Our cost test revealed that more than twenty percent of CCM's home market sales of certain products were made at below-cost prices during the reporting period. Therefore, we disregarded those below-cost sales, while retaining the above-cost sales for our analysis.

C. Calculation of Normal Value Based on Comparison-Market Prices

We determined price-based NVs for CCM as follows. For those comparison products for which there were sales at prices above the COP, we based CCM's NV on the prices at which the foreign like product was first sold to unaffiliated parties for consumption in Brazil, in the usual commercial quantities, in the ordinary course of trade in accordance with section 773(a)(1)(B)(i) of the Act. We based NV on sales at the same LOT as the U.S. transactions. For LOT analysis, please see the Level of Trade section above. We adjusted the starting price for any differences in packing costs, in accordance with section 773(a)(6) of the Act, and we deducted from the starting price movement expenses pursuant to section 773(a)(6)(B)(ii) of the Act. In addition, where applicable, we adjusted the starting price to account for differences in circumstances of sale (COS) in accordance with section 773(a)(6)(C)(iii) of the Act and 19 CFR 351.410. We also adjusted the starting price, pursuant to 19 CFR 351.410(e), for indirect selling expenses incurred on comparison-market or U.S. sales where commissions were granted on sales in one market but not in the other market, where applicable.

Specifically, we reduced the starting price for inland freight pursuant to section 773(a)(6)(B) of the Act. In accordance with 19 CFR 351.401(c), we increased the starting price for interest revenue. We also made COS adjustments to the starting price for imputed credit expenses in accordance with section 773(a)(6)(C)(iii) of the Act and 19 CFR 351.410. Finally, we deducted home market packing costs from, and added U.S. packing costs to the starting price in accordance with sections 773(a)(6)(A) and (B) of the Act.

Currency Conversions

We made currency conversions in accordance with section 773A of the Act based on the exchange rates in effect on the dates of the U.S. sales as reported by the Federal Reserve Bank.

Preliminary Results of Review

As a result of our review, we preliminarily determine that the following weighted-average dumping margin exists for the period July 1, 2003, through June 30, 2004.

Manufacturer/exporter | Weighted-average margin percentage
CCM | 0.00

Pursuant to 19 CFR 351.224(b), the Department will disclose to parties to the proceeding any calculations performed in connection with these preliminary results within 5 days of the date of publication of this notice. Any interested party may request a hearing within 30 days of the date of publication of this notice. Parties who submit arguments in this proceeding are requested to submit with each argument: (1) A statement of the issue, (2) a brief summary of the argument and (3) a table of authorities. Further, parties submitting written comments should provide the Department with an additional copy of the public version of any such comments on diskette. All case briefs must be submitted within 30 days of the date of publication of this notice. Rebuttal briefs, which are limited to issues raised in the case briefs, may be filed not later than five days after the case briefs are filed. A hearing, if requested, will be held two days after the date the rebuttal briefs are filed or the first business day thereafter.

The Department will publish a notice of the final results of this administrative review, which will include the results of its analysis of the issues raised in any written comments or at the hearing, within 120 days from the publication of these preliminary results.

The Department shall determine, and CBP shall assess, antidumping duties on all appropriate entries. Upon completion of this review, the Department will issue appraisement instructions directly to CBP. The final results of this review shall be the basis for the assessment of antidumping duties on entries of merchandise covered by the review and for future deposits of estimated duties. For duty assessment purposes, we will calculate a per-unit customer or importer-specific assessment rate by aggregating the dumping margins calculated for all U.S. sales to each customer/importer and dividing this amount by the total quantity of those sales. Where the assessment rate is above de minimis, we will instruct CBP to assess duties on all entries of subject merchandise by that importer.

The following deposit requirements will be effective for all shipments of silicon metal from Brazil entered, or withdrawn from warehouse, for consumption on or after the publication date of the final results of this administrative review, as provided by section 751(a)(1) of the Act: (1) the cash-deposit rates for the reviewed company will be the rate established in the final results of review; (2) for previously reviewed or investigated companies not listed above, the cash-deposit rate will continue to be the company-specific rate published for the most recent period; (3) if the exporter is not a firm covered in this review, a prior review, or the less-than-fair-value investigation but the manufacturer is, the cash-deposit rate will be the rate established for the most recent period for the manufacturer of the merchandise; and (4) the cash-deposit rate for all other manufacturers or exporters will continue to be 91.06 percent, the “All Others” rate established in the LTFV investigation. These requirements, when imposed, shall remain in effect until publication of the final results of the next administrative review.

This notice serves as a preliminary reminder to importers of their responsibility under 19 CFR 351.402(f) of the Department's regulations to file a certificate regarding the reimbursement of antidumping duties prior to liquidation of the relevant entries during this review period. Failure to comply with this requirement could result in the Secretary's presumption that reimbursement of antidumping duties occurred and the subsequent assessment of double antidumping duties.

This administrative review and notice are issued and published in accordance with sections 751(a)(1) and 777(i)(1) of the Act and 19 CFR 351.221.

Dated: August 1, 2005.
Joseph A. Spetrini,
Acting Assistant Secretary for Import Administration.

[FR Doc. E5-4255 Filed 8-5-05; 8:45 am]

BILLING CODE 3510-DS-S